DEPARTMENT OF AGRICULTURE

Animal and Plant Health Inspection Service

[Docket No. APHIS-2011-0111]

Notice of Request for Extension of Approval of an Information Collection; Importation of Baby Corn and Baby Carrots From Zambia

Correction

In notice document 2011-33209 appearing on page 81467 in the issue of Wednesday, December 28, 2011 make the following correction:

In the first column, second full paragraph, DATES: “We will consider all comments we receive on or before December 28, 2011.”, should read “We will consider all comments that we receive on or before February 27, 2012.”.

[FR Doc. C1-2011-33209 Filed 1-10-12; 8:45 am]

BILLING CODE 1505-01-D